DEPARTMENT OF AGRICULTURE

Forest Service

Butte County Resource Advisory Committee (RAC); Meeting

AGENCY: Forest Service, USDA.

ACTION: Notice of Meeting.

SUMMARY: The Butte County Resource Advisory Committee (RAC) will hold a meeting on April 18, 2011 in Oroville, CA. The purpose of the meeting is to: Introduce new RAC members to each other, review the Secure Rural Schools legislation & RAC member responsibilities, review & make funding recommendation for Cycle 1 projects, review a timeline for Cycle 2 project funding and schedule out meeting(s). The funding is made available under Title II provisions of the Secure Rural Schools and Community Self-Determination Act of 2000.

Date & Address: The meeting will take place from 6:30-9 p.m. at the Feather River Ranger District Office, 875 Mitchell Avenue, Oroville, CA.

FOR FURTHER INFORMATION CONTACT: (or for special needs): Lee Anne Schramel Taylor, Forest Coordinator, USDA, Plumas National Forest, P.O. Box 11500/159 Lawrence Street, Quincy, CA 95971; (530) 283-7850; or by e-mail eataylor@fs.fed.us. Other RAC information may be obtained at http://www.fs.usda.gov and http://www.fs.fed.us/srs.

Dated: March 18, 2011.
Matt Janowiak,
Acting Deputy Forest Supervisor.

[FR Doc. 2011-6938 Filed 3-23-11; 8:45 am]

BILLING CODE P